DEPARTMENT OF ENERGY

Federal Energy Regulatory Commission

[Dockets Nos. CP00-232-000 and CP00-232-001]

Iroquois Gas Transmission System, L.P.; Notice of Availability of the Draft Environmental Impact Statement for the Proposed Eastchester Project

August 2, 2001.

The staff of the Federal Energy Regulatory Commission (FERC or Commission) has prepared a Draft Environmental Impact Statement (DEIS) on the natural gas pipeline facilities proposed by Iroquois Gas Transmission System, L.P. (Iroquois) in the above referenced docket.

The DEIS was prepared to satisfy the requirements of the National Environmental Policy Act. The staff concludes that approval of the proposed project, with the mitigation measures recommended in the DEIS (including a route variation to Hunts Point), would have limited adverse environmental impact.

The DEIS addresses the potential environmental effects of the project proposed by Iroquois to convey natural gas from Northport, Long Island, to the Bronx, New York. The pipeline would be constructed across Long Island Sound and be comprised of the following facilities:

32.8 miles of 24-inch diameter pipe;

Pipeline maintenance facilities constructed in Northport and the Bronx;

One mainline valve at Locus Point;

A gas meter, regulator, heater, odorant facility, and mainline valve at the project terminus in the Bronx;

Two new compressor stations along the existing Iroquois pipeline;

Additions and modifications to three existing compressor stations; and

Workspace and access roads to construct, operate, and maintain the above facilities.

The purpose of the proposed facilities would be to provide natural gas for electric generation and to serve residential, industrial, and commercial customers in New York City. The proposed project would serve:

Consolidated Edison Energy, Inc.—30,000 dekatherms per day (Dth/day)

Keyspan Ravenswood, Inc.—60,000 Dth/day

Orion Power Holdings, Inc.—60,000 Dth/day

Miriant New York Management, Inc.— 60,000 Dth/day

Virginia Power Energy Marketing, Inc.—20,000 Dth/day.

This DEIS is provided to the U.S. Fish and Wildlife Service (USFWS) and to the National Marine Fisheries Service (NMFS) as our biological assessment under the Endangered Species Act (ESA). Sections 4.7, 5, and 6 of the DEIS specifically discuss listed species and measures to mitigate any project related impacts to those species and any critical habitat in the project vicinity. Staff concludes, the project, with the proposed mitigation in the DEIS, would not likely adversely affect listed species or their critical habitat. We request written concurrence from the USFWS and the NMFS on this conclusion. Absent the requested concurrence, we request initiation of formal consultation under section 7(a)(2) of the ESA.

Pursuant to section 305(b) of the Magnuson-Stevens Fishery Conservation and Management Act, federal agencies are required to consult with the NMFS on any action that may result in adverse effects to essential fish habitat (EFH). Sections 4.6.2 through 4.6.2.2, 5, and 6 and Appendix E assess the impacts of the proposed project on EFH, and propose specific mitigation measures to minimize those impacts. We request NMFS provide any EFH Conservation Recommendations during the comment period for the DEIS.

Comment Procedures

Any person wishing to comment on the DEIS may do so. To ensure consideration prior to a Commission decision on the proposal, it is important that we receive your comments before the date specified below. Please carefully follow these instructions to ensure that your comments are received in time and properly recorded.

• Send an original and two copies of your comments to: Secretary, Federal Energy Regulatory Commission, 888 First Street, NE, Room 1A, Washington, DC 20426.

• Label one copy of the comments for the attention of GHG, PJ11.3;

• Reference Docket Nos. CP00-232-000 and 001; and

• Mail your comments so that they will be received in Washington DC on or before September 24, 2001.

Comments, protests and interventions may be filed electronically via the Internet in lieu of paper. See, 18 CFR 385.2001(a)(1)(iii) and the instructions on the Commission's web site under the “e-Filing” link.

After comments are reviewed, any significant new issues are investigated, and modifications are made in the DEIS, a Final Environmental Impact Statement (FEIS) will be published and distributed by the staff. The FEIS will contain the staff's responses to timely comments on the DEIS.

All appropriately filed comments will be considered by the Commission. Anyone with an interest in the outcome of this proceeding may wish to become an intervenor. An intervenor has certain legal rights and responsibilities, notably the right to contest any action the Commission may take in this proceeding. Commenting on the DEIS will not make you an intervenor. Any person seeking to intervene and become a party to the proceeding must file a motion to intervene pursuant to Rule 214 of the Commission's Rules of Practice and Procedures (18 CFR 385.214). Interventions may also be filed electronically via the Internet.

The DEIS has been placed in the public files of the FERC and is available for distribution and public inspection at: Federal Energy Regulatory Commission, Public Reference and Files Maintenance Branch, 888 First Street, NE, Room 2A, Washington, DC 20426.

A limited number of copies are available from the Public Reference and Files Maintenance Branch identified above. In addition, copies of the DEIS have been mailed to federal, state and local agencies, public interest groups, individuals who have requested the DEIS, newspapers, and parties to this proceeding. It has also been distributed to the commentors and libraries listed in Appendix A of the DEIS.

Additional information about the proposed project is available from the Commission's Office of External Affairs, at (202) 208-1088 or on the FERC Internet website (www.ferc.gov) using the “RIMS” link, select “Docket #” from the RIMS Menu, and follow the instructions. For assistance with access to RIMS, the RIMS helpline can be reached at (202) 208-2222.

Similarly, the “CIPS” link on the FERC Internet website provides access to the text of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 01-19878 Filed 8-7-01; 8:45 am]

BILLING CODE 6717-01-P